FEDERAL COMMUNICATIONS COMMISSION

47 CFR Part 73

[DA 14-1060]

Radio Broadcasting Services; Various Locations

AGENCY: Federal Communications Commission.

ACTION: Final rule.

SUMMARY: The Audio Division amends the FM Table of Allotments (“FM Table”) to remove certain vacant FM allotments that were auctioned in FM Auction 79 that are currently considered authorized stations. FM assignments for authorized stations and reserved facilities will be reflected solely in Media Bureau's Consolidated Database System (CDBS).

DATES: Effective August 13, 2014.

FOR FURTHER INFORMATION CONTACT: Rolanda F. Smith, Media Bureau, (202) 418-2700.

SUPPLEMENTARY INFORMATION: This is a summary of the Commission's Report and Order, DA 14-1060, adopted July 24, 2014, and released July 25, 2014. The full text of this Commission decision is available for inspection and copying during normal business hours in the Commission's Reference Center 445 12th Street SW., Washington, DC 20554. The complete text of this decision may also be purchased from the Commission's duplicating contractor, Best Copy and Printing, Inc., 445 12th Street SW., Room CY-B402, Washington, DC 20054, telephone 1-800-378-3160 or www.BCPIWEB.com. The Commission will not send a copy of this Report and Order pursuant to the Congressional Review Act, see 5 U.S.C. 801(a)(1)(A), because the adopted rules are rules of particular applicability. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
Nazifa Sawez,
Assistant Chief, Audio Division, Media Bureau.

As stated in the preamble, the Federal Communications Commission amends 47 CFR part 73 as follows:

PART 73—RADIO BROADCASTING SERVICES

1. The authority citation for part 73 continues to read as follows:

Authority: 47 U.S.C. 154, 303, 334, 336 and 339.

§ 73.202 [Amended]

2. Amend § 73.202(b) Table of FM Allotments as follows:

a. Remove Boligee, under Alabama, Channel 297A; and Maplesville, Channel 292A.

b. Remove Grand Canyon Village, under Arizona, Channel 273C1; and Channel 268C3 at Peach Springs.

c. Remove Sparkman, under Arkansas, Channel 259A.

d. Remove Channel 237A, under California, at Amboy; Big Sur, Channel 240A; Buttonwillow, Channel 265A; Channel 287A at Cambria; Kernville, Channel 289A; Lamont, Channel 247A; Channel 252A at Ridgecrest; and Susanville, Channel 264A.

e. Remove Crawford, under Colorado, Channel 274C3; and Genoa, Channel 291C3.

f. Remove Eastpoint, under Florida, Channel 283A; Jasper, Channel 298A; Okeechobee, Channel 291A; Palm Coast, Channel 254A; and Port St. Joe, Channel 270C3.

g. Remove Crawfordville, under Georgia, Channel 234A; Dexter, Channel 276A; and Tallapoosa, Channel 255A.

h. Remove Channel 293C3, under Idaho, at McCall.

i. Remove Lake Providence, under Louisiana, Channel 224A; Oak Grove, Channel 289A; and Opelousas, Channel 279A.

j. Remove McBain, under Michigan, Channel 300A.

k. Remove Walnut Grove, under Mississippi, Channel 244C2.

l. Remove Moberly, under Missouri, Channel 223A.

m. Remove Roundup, under Montana, Channel 248A.

n. Remove Arthur, under Nebraska, Channel 300C1; and Hartington, Channel 232C2.

o. Remove Grants, under New Mexico, Channel 244C3; Milan, Channel 270A; and Channel 228A at Taos.

p. Remove Indian Lake, under New York, Channel 290A.

q. Remove McConnelsville, under Ohio, Channel 279A.

r. Remove Haileyville, under Oklahoma, Channel 290A; Hollis, Channel 274C2; Kiowa, Channel 254A; Channel 300C2 at Mooreland; Stuart, Channel 228A; and Wapanucka, Channel 298A.

s. Remove Quinby, under South Carolina, Channel 237A.

t. Remove Sisseton, under South Dakota, Channel 258C2.

u. Remove Lynchburg, under Tennessee, Channel 230A.

v. Remove Buffalo Gap, under Texas, Channel 227A; Channing, Channel 284C; Detroit, Channel 282C2; Floydada, Channel 255A; Channel 250A at George West; Goliad, Channel 282A; Hooks, Channel 231A; Channel 292A at Junction; La Pryor, Channel 278A; Ozona, Channel 289C1; Pampa, Channel 277C2; Rankin, Channel 229C3; Channel 235C3 at Rocksprings; San Diego, Channel 273A; San Isidro, Channel 247A; Channel 254A at Spur; and Westbrook, Channel 272A.

w. Remove Salina, under Utah, Channel 239C.

x. Remove Belle Haven, under Virginia, Channel 252A and Lynchburg, Channel 229A.

y. Remove Channel 257A, under Virgin Islands, at Charlotte Amalie and Frederiksted, Channel 258A.

z. Remove Union Gap, under Washington, Channel 285A.

aa. Remove Pine Bluffs, under Wyoming, Channel 238C3.

[FR Doc. 2014-19160 Filed 8-12-14; 8:45 am]

BILLING CODE 6712-01-P